DEPARTMENT OF COMMERCE

International Trade Administration

[A-588-850]

Certain Large Diameter Carbon and Alloy Seamless Standard, Line, and Pressure Pipe from Japan: Notice of Rescission of Antidumping Duty Administrative Review

AGENCY: Import Administration, International Trade Administration, Department of Commerce.

EFFECTIVE DATE: October 21, 2005.

SUMMARY: On July 15, 2005, the Department of Commerce (the Department) published in the Federal Register a notice announcing the initiation of an administrative review of the antidumping duty order on certain large diameter carbon and alloy seamless standard, line, and pressure pipe from Japan, covering the period June 1, 2004, through May 31, 2005. See Notice of Initiation of Antidumping and Countervailing Duty Administrative Reviews and Request for Revocation in Part 70 FR 42028 (July 15, 2005) (Initiation Notice). The review was requested by United States Steel Corporation (the petitioner). We are now rescinding this review as a result of the petitioner's withdrawal of its request for an administrative review.

FOR FURTHER INFORMATION CONTACT: Constance Handley or David Layton, at (202) 482-0631 or (202) 482-0371, respectively, AD/CVD Operations Office 1, Import Administration, International Trade Administration, U.S. Department of Commerce, 14th Street & Constitution Avenue, NW, Washington, DC 20230.

SUPPLEMENTARY INFORMATION:

Background

In accordance with 19 CFR 351.213(b), on June 30, 2005, the petitioner requested an administrative review of the antidumping duty order for JFE Steel Corporation, Nippon Steel Corporation, NKK Tubes, and Sumitomo Metal Industries, Ltd. on certain large diameter carbon and alloy seamless standard, line, and pressure pipe from Japan. None of the respondents requested a review. On July 15, 2005, in accordance with 19 CFR 351.221(c)(1)(i), we published the initiation of an administrative review of this order for the period June 1, 2004, through May 31, 2005. See Initiation Notice. On September 20, 2005, the petitioner timely withdrew its request for an administrative review of certain large diameter carbon and alloy seamless standard, line, and pressure pipe from Japan.

Rescission of Review

The Department's regulations at 351.213(d)(1) provide that the Department will rescind an administrative review if the party that requested the review withdraws its request for review within 90 days of the date of publication of the notice of initiation of the requested review, or withdraws its request at a later date if the Department determines that it is reasonable to extend the time limit for withdrawing the request. The petitioner withdrew its request within the 90-day period and was the only party to request this review. Accordingly, we are rescinding this review. The Department will issue appropriate assessment instructions to U.S. Customs and Border Protection within 15 days of publication of this notice.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: October 14, 2005.
Gary Taverman,
Acting Deputy Assistant Secretary for Import Administration.

[FR Doc. E5-5828 Filed 10-20-05; 8:45 am]

BILLING CODE 3510-DS-S